DEPARTMENT OF LABOR

Employment and Training Administration

[TA-W-56,434]

Metso Minerals Industries, Inc., Keokuk, IA; Notice of Termination of Investigation

Pursuant to section 221 of the Trade Act of 1974, an investigation was initiated on January 31, 2005, in response to a petition filed by a company official on behalf of workers at Metso Minerals Industries, Inc., Keokuk, Iowa.

The petitioner has requested that the petition be withdrawn. Consequently, the investigation has been terminated.

Signed in Washington, DC, this 7th day of February, 2005.
Elliott S. Kushner,
Certifying Officer, Division of Trade Adjustment Assistance.

[FR Doc. E5-1137 Filed 3-15-05; 8:45 am]

BILLING CODE 4510-30-P